Title 3—

The President

Proclamation 8418 of September 16, 2009

Constitution Day And Citizenship Day, Constitution Week, 2009

By the President of the United States of America

A Proclamation

The United States Constitution has withstood the test of time for more than two centuries as our Nation’s charter of government and the guarantor of our liberties. Signed in Philadelphia on September 17, 1787, this founding document reflects our core values and enshrines the truths set forth in the Declaration of Independence, that we are each endowed with certain unalienable rights. As the beneficiaries of these rights, all Americans have a solemn obligation to participate in our democracy so that it remains vibrant, strong, and responsive to the needs of our citizens.

To succeed, the democracy established in our Constitution requires the active participation of its citizenry. Each of us has a responsibility to learn about our Constitution and teach younger generations about its contents and history. By fulfilling civic duties, engaging government at the local, State, and Federal level, and volunteering in our communities, individual citizens can better our country and breathe life into the freedoms established in the Constitution.

The right to participate in self-government, and the many other freedoms guaranteed by our Constitution, inspire the dreams and ambitions of many inside and outside our borders. These principles serve as a beacon of hope for Americans and those who seek new lives in the United States. Every day, we welcome new and diverse stories and heritages into the great patchwork of our Nation. United by our devotion to the Constitution and to the civic engagement it inspires, Americans remain committed to the fundamental principles established over two hundred years ago.

In remembrance of the signing of the Constitution and in recognition of the Americans who strive to uphold the duties and responsibilities of citizenship, the Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, BARACK OBAMA, President of the United States of America, do hereby proclaim September 17, 2009, as Constitution Day and Citizenship Day, and September 17 through September 23, 2009, as Constitution Week. I encourage Federal, State, and local officials, as well as leaders of civic, social, and educational organizations, to conduct ceremonies and programs that celebrate our Constitution and reaffirm our rights and obligations as citizens of our great Nation.

IN WITNESS WHEREOF, I have hereunto set my hand this sixteenth day of September, in the year of our Lord two thousand nine, and of the Independence of the United States of America the two hundred and thirty-fourth.

[FR Doc. E9-22881

Filed 9-18-09; 11:15 am]

Billing code 3195-W9-P